DEPARTMENT OF TRANSPORTATION

Coast Guard

33 CFR Part 117

[CGD07-00-097]

Drawbridge Operation Regulations; Florida East Coast Railway Bridge, across the Okeechobee Waterway, mile 7.4, at Stuart, Martin County, FL

AGENCY: Coast Guard, DOT.

ACTION: Notice of temporary deviation from regulation.

SUMMARY: The Commander, Seventh Coast Guard District, has approved a temporary deviation from the regulations governing the operation of the Florida East Coast Railway bridge across the Okeechobee Waterway, mile 7.4, Stuart, Martin County, Florida. This deviation allows the drawbridge owner or operator to not open the bridge for short periods of time, approximately 30 to 45 minutes in duration, from 7:00 until 4:00 pm from October 9, 2000 through October 12, 2000. This temporary deviation is required from October 9, 2000 until October 12, 2000, to allow the bridge owner to safely complete repairs of the bridge.

DATES: This deviation is effective from October 9, 2000 to October 12, 2000.

FOR FURTHER INFORMATION CONTACT: Mr. Barry Dragon, Chief, Operations Section, Seventh Coast Guard District, Bridge Section at (305) 415-6743.

SUPPLEMENTARY INFORMATION: The Florida East Coast Railway drawbridge across the Okeechobee Waterway at Stuart, has a vertical clearance of 7 feet above mean high water (MHW) measured at the fenders in the closed position and during construction will have a horizontal clearance of 50 feet. On September 8, 2000, Florida East Coast Railway, the drawbridge owner, requested a deviation from the current operating regulation in 33 CFR 117.5 which requires drawbridge to open promptly and fully when a request to open is given. This temporary deviation was requested to allow necessary repairs to the drawbridge in a critical time sensitive manner.

The District Commander has granted a temporary deviation from the operating requirements listed in 33 CFR 117.35 for the purpose of repair completion of the drawbridge. Under this deviation, the Florida East Coast Railway Bridge need not open the bridge for short periods of time, approximately 30 to 45 minutes in duration. The deviation is effective for a period of 4 days beginning on October 9, 2000 and ending on October 12, 2000.

Dated: September 22, 2000.
Greg E. Shapley,
Chief, Bridge Administration, Seventh Coast Guard District.

[FR Doc. 00-25485 Filed 10-3-00; 8:45 am]

BILLING CODE 4910-15-M